DEPARTMENT OF TRANSPORTATION

Federal Aviation Administration

Commercial Space Transportation Advisory Committee; Public Teleconference

AGENCY: Federal Aviation Administration (FAA), DOT.

ACTION: Notice of Commercial Space Transportation Advisory Committee Teleconference.

SUMMARY: Pursuant to Section 10(a)(2) of the Federal Advisory Committee Act (Pub. L. 92-463, 5 U.S.C. App. 2), notice is hereby given of a teleconference of the Operations Working Group (OWG) of the Commercial Space Transportation Advisory Committee (COMSTAC). The teleconference will take place on Tuesday, July 17, 2012, starting at 1 p.m. Eastern Daylight Time. Individuals who plan to participate should contact Susan Lender, Designated Federal Officer (DFO), (the Contact Person listed below) by phone or email for the teleconference call in number. The proposed agenda for this teleconference is to follow up on issues raised during the May 10, 2012, OWG meeting. These issues include:

• Discussing the question of on-orbit authority for the FAA and the jurisdiction and regulation aspects of this question; and

• Examining possible next steps for the white paper that discussed possible revisions to the requirements for launch site licensing.

Interested members of the public may submit relevant written statements for the COMSTAC working group members to consider under the advisory process. Statements may concern the issues and agenda items mentioned above or additional issues that may be relevant for the U.S. commercial space transportation industry. Interested parties wishing to submit written statements should contact Susan Lender, DFO, (the Contact Person listed below) in writing (mail or email) by July 10, 2012, so that the information can be made available to COMSTAC members for their review and consideration before the July 17, 2012, teleconference. Written statements should be supplied in the following formats: one hard copy with original signature or one electronic copy via email.

An agenda will be posted on the FAA Web site at http://www.faa.gov/go/ast.

Individuals who plan to participate and need special assistance should inform the Contact Person listed below in advance of the meeting.

FOR FURTHER INFORMATION CONTACT: Susan Lender (AST-5), Office of Commercial Space Transportation (AST), 800 Independence Avenue SW., Room 331, Washington, DC 20591, telephone (202) 267-8029; Email susan.lender@faa.gov. Complete information regarding COMSTAC is available on the FAA Web site at: http://www.faa.gov/about/office_org/headquarters_offices/ast/advisory_committee/.

Dated: Issued in Washington, DC, June 5, 2012.
George C. Nield,
Associate Administrator for Commercial Space Transportation.

[FR Doc. 2012-14150 Filed 6-11-12; 8:45 am]

BILLING CODE 4910-13-P